DEPARTMENT OF ENERGY

Federal Energy Regulatory Commission

[Docket Nos. CP02-39-000; CP02-40-000; CP02-41-000; and CP02-42-000]

Pacific Gas and Electric Co.; Standard Pacific Gas Line Incorporated; Trans LLC; PG&E Gas Transmission, Northwest Corp.; Notice of Effective Date of Withdrawal

May 17, 2004.

Take notice that on April 13, 2004, Pacific Gas and Electric Company, Standard Pacific Gas Line Incorporated, GTrans LLC and Gas Transmission Northwest Corporation (formerly PG&E Gas Transmission, Northwest Corporation) (collectively, “Applicants”) filed a Notice of Withdrawal. Applicants seek to withdraw the application filed on November 30, 2001, and to terminate the present proceedings in the above referenced dockets.

Under section 385.216(b) of the Commission's Regulations, a withdrawal of a pleading is effective 15 days after the withdrawal if no motion opposing the withdrawal is filed. No motion opposing the withdrawal was filed. Accordingly, the effective date of the withdrawal is April 28, 2004.

Magalie R. Salas,
Secretary.

[FR Doc. E4-1202 Filed 5-21-04; 8:45 am]

BILLING CODE 6717-01-P